DEPARTMENT OF TRANSPORTATION

Federal Transit Administration

[Docket No. FTA-2016-0041]

Proposed General Directive 17-1; Stop Signal Overruns on Rail Fixed Guideway Public Transportation Systems

AGENCY: Federal Transit Administration (FTA), DOT.

ACTION: Notice of proposed general directive; request for comments.

SUMMARY: FTA has placed in the docket and on its Web site a proposed General Directive to address safety risks associated with stop signal overruns. The proposed directive follows FTA's review and analysis of data and information submitted in response to the agency's Safety Advisory 16-1: Stop Signal Overruns, for Rail Fixed Guideway Public Transportation System operations during calendar year 2015.

DATES: Comments must be received by March 20, 2017. Any comments filed after this deadline will be considered to the extent practicable.

ADDRESSES: Please identify your submission by Docket Number [FTA-2016-0041] through one of the following methods:

• Federal eRulemaking Portal: Submit electronic comments and other data to http://www.regulations.gov.

• U.S. Mail: Send comments to Docket Operations; U.S. Department of Transportation; 1200 New Jersey Avenue SE., Room W12-140, Washington, DC 20590-0001.

• Hand Delivery or Courier: Take comments to Docket Operations in Room W12-140 of the West Building, Ground Floor, at 1200 New Jersey Avenue SE., Washington, DC, between 9:00 a.m. and 5 p.m., Monday through Friday, except Federal holidays.

• Fax: Fax comments to Docket Operations, U.S. Department of Transportation, at (202) 493-2251.

Instructions: You must include the agency name (Federal Transit Administration) and Docket Number (FTA-2016-0041) for this notice at the beginning of your comments. Due to security procedures in effect since October 2001, mail received through the U.S. Postal Service may be subject to delays. Parties submitting comments should consider using an express mail firm to ensure their prompt filing of any submissions not filed electronically or by hand. If you wish to receive confirmation that FTA received your comments, you must include a self-addressed stamped postcard. All comments received will be posted without change to http://www.regulations.gov, including any personal information provided. You may review U.S. DOT's complete Privacy Act Statement published in the Federal Register on April 11, 2000, at 65 FR 19477 or http://DocketsInfo.dot.gov.

Electronic Access and Filing: This document and all comments received may be viewed online through the Federal eRulemaking portal at http://www.regulations.gov. Assistance and guidelines for electronic submission and retrieval are available on the Web site 24 hours each day, 365 days a year. Please follow the instructions. An electronic copy of this document may be downloaded from the Office of Federal Register's home page at https://www.federalregister.gov.

FOR FURTHER INFORMATION CONTACT: For program matters, Candace Key, Acting Director, Office of System Safety, (202) 366-9178 or Candace.Key@dot.gov or Aloha Ley, Chief, Safety Assurance and Risk Management Division, (202) 366-4979 or Aloha.Ley2@dot.gov. For legal matters, Scott Biehl, Senior Counsel, (202) 366-0826 or Scott.Biehl@dot.gov.

SUPPLEMETARY INFORMATION: In accordance with 49 CFR 670.25, the Federal Transit Administration (FTA) is proposing a General Directive to address the combination of unsafe conditions and practices that lead to stop signal overruns and the risks of death or personal injury or damage to property or equipment. The proposed directive follows FTA's review and analysis of data and information submitted in response to the agency's Safety Advisory 16-1: Stop Signal Overruns, for RFGPTS operations during calendar year 2015. FTA's review of the data and information gathered in response to Safety Advisory 16-1: Stop Signal Overruns, for rail transit operations during calendar year 2015 indicates that RFGPTSs experience stop signal overruns with varying frequencies, and that most SSOAs do not actively investigate these events. Further, the responses to Safety Advisory 16-1 indicate a lack of standard practice, definitions and requirements in the rail transit industry to protect against unauthorized passing of stop signals.

FTA requests public comment on this proposed General Directive, which is available in its entirety on the FTA public Web site at http://www.transit.dot.gov/tso.html and in Docket No. FTA-2016-0041 at www.regulations.gov. Following a summary and analysis of the public comment, FTA will issue a final General Directive, and a notice of the availability of that final General Directive in the Federal Register, with a Web link to the agency's responses to the public comment.

Carolyn Flowers,
Acting Administrator.

[FR Doc. 2017-00793 Filed 1-13-17; 8:45 am]

BILLING CODE P